DEPARTMENT OF ENERGY

Federal Energy Regulatory Commission

[Project No. 12514-074]

Northern Indiana Public Service Company; Notice of Application for Amendment of License, Modifying Abnormal River Conditions Under Article 405, and Reservoir Surface Elevations Under Article 403 and Soliciting Comments, Motions To Intervene and Protests

Take notice that the following hydroelectric application has been filed with the Commission and is available for public inspection:

a. Application Type: Amendment of License and Modifying Abnormal River Conditions Definition.

b. Project No: 12514-074.

c. Date Filed: October 2, 2014.

d. Applicant: Northern Indiana Public Service Company (licensee).

e. Name of Project: Norway-Oakdale Hydroelectric Project.

f. Location: The Norway-Oakdale Project is located on the Tippecanoe River near the town of Monticello, in Carroll and White counties, Indiana. The project consists of the upper Norway development and the lower Oakdale development each of which has a dam and powerhouse.

g. Filed Pursuant to: Federal Power Act, 16 U.S.C. 791a-825r.

h. Applicant Contact: Mr. Justin Darling, Hydro Supervisor—Chemical and Environmental Compliance, Northern Indiana Public Service Company, 1414 W. Broadway, Monticello, IN 47960, 574-583-1154.

i. FERC Contact: Mr. Mark Pawlowski 202-502-6052, mark.pawlowski@ferc.gov.

j. Deadline for filing comments, motions to intervene, and protests: March 16, 2015.

All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street NE., Washington, DC 20426. Commenters can submit brief comments up to 6,000 characters, without prior registration, using the eComment system at http://www.ferc.gov/docs-filing/ecomment.asp. You must include your name and contact information at the end of your comments.

Please include the project number (P-12514) on any comments, motions, or recommendations filed.

k. Description of Request: Northern Indiana Public Service Company, licensee for the Norway-Oakdale Hydroelectric Project, requests the Commission amend the definition of abnormal river conditions pursuant to article 405 of the project license. Under the proposed definition the licensee requests to amend article 405 to include a low flow trigger under which the licensee could deviate from the reservoir elevation requirements of article 403 of the license. Low flow conditions, also referred to herein as abnormal low flow (ALF), would be defined as a daily average river flow of ≤ 300 cubic feet per second (cfs) as measured at the United States Geological Survey (USGS) Winamac gage no. 03331753; or in the event of an equipment or operation issue at Oakdale dam unrelated to upstream flow conditions upstream, a 24-hour daily average of river flow of ≤ 570 cfs at the USGS Oakdale gage no. 03332605. In order to implement the requirements of the U.S. Fish and Wildlife Service's (FWS) August 13, 2014, Technical Assistance Letter (TAL), the licensee also requests to amend the elevation requirements of article 403 to be within 0.75 feet above and 0.25 feet below elevation 647.47 feet National Geodetic Vertical Datum (NGVD) at Lake Shafer and 0.75 feet above elevation 612.45 feet NGVD at Lake Freeman.

The TAL calls for the licensee to operate the Norway and Oakdale developments according to the following protocols under the ALF as defined above: (1) cease electric power generation at the Oakdale dam when the 24-hour daily average flow at the USGS Winamac gage no. 03331753 is ≤ 300 cfs or the 24-hour daily average flow at the USGS Oakdale gage no. 03332605 is ≤600 cfs; (2) discharge 1.9 times the flow of the previous 24-hour daily average flow measured at the USGS Winamac gage out of the Oakdale dam as measured at the USGS Oakdale gage (considered to be the run-of-river flow during the ALF); (3) continue ALF plan protocols until the 24-hour average at the USGS Winamac gage is >300 cfs; and (4) meet all monitoring and reporting requirements. Providing the required downstream flow could require the licensee to increase the release flow from Lake Freeman through drawdown of one or both lakes outside of the proposed limits (within 0.75 feet above and 0.25 feet below elevation 647.47 feet NGVD for Lake Shafer and 0.75 feet above elevation 612.45 feet NGVD for Lake Freeman). Deviations outside of these ranges would result from efforts by the licensee to maintain a minimum flow of 500 cfs downstream of the Oakdale dam to protect federally endangered mussel species and their habitat. Such reservoir level deviations could include partial or complete drawdown of the Lake Shafer and/or Lake Freeman. Operating in accordance with these requirements under abnormal river flow conditions is intended to satisfy FWS' objectives to protect downstream mussel populations against the unlawful take of an endangered species. Reservoir drawdowns would have the potential to affect aquatic, terrestrial, recreation, and cultural resources associated with the lakes, as well as potential stability issues related to seawalls, docks, and piers.

l. Locations of the Application: A copy of the application is available for inspection and reproduction at the Commission's Public Reference Room, located at 888 First Street NE., Room 2A, Washington, DC 20426, or by calling 202-502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 866-208-3676 or email FERCOnlineSupport@ferc.gov, for TTY, call 202-502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”; “PROTESTS”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: February 12, 2015.
Nathaniel J. Davis, Sr.,
Deputy Secretary.

[FR Doc. 2015-03444 Filed 2-18-15; 8:45 am]

BILLING CODE 6717-01-P